DEPARTMENT OF ENERGY

Federal Energy Regulatory Commission

[Docket No. OR14 -36-000]

Chevron Products Company v. SFPP, L.P.; Notice of Complaint

Take notice that on June 30, 2014, pursuant to Rule 206 of the Federal Energy Regulatory Commission's (Commission) Rules of Practice and Procedure, 18 CFR 385.206, Section 343.2 of the Procedural Rules Applicable to Oil Pipeline Proceedings, 18 CFR 343.2, and Sections 1(5), 8, 9, 13, 15, and 16 of the Interstate Commerce Act (ICA), 49 U.S.C. App. 1(5), 8, 9, 13, 15, and 16 (1994), Chevron Products Company (Complainant) submitted a complaint challenging the justness and reasonableness of SFPP's (Respondent) West Line (Tariff Nos. 196.9.0 and 198.9.0) and East Line (Tariff No. 197.4.0) index rate increases taken in 2012 and Respondent's West Line (Tariff No. 198.10.0), East Line (Tariff No. 197.6.0), Oregon Line (Tariff No. 200.4.0), North Line (Tariff No. 199.4.0), and Sepulveda Line (Tariff No. 195.4.0) index increases taken in 2013. Complainant alleges that Respondent's rates for this transportation are unjust and unreasonable and request that the Commission investigate Respondent's rates, set the proceedings for an evidentiary hearing to determine the just and reasonable rates for Respondent's index rate increases, require Respondent to pay reparations starting two years before the date of the Complaint for all rates, and award such other relief as is necessary and appropriate under the ICA.

Complainant states that copies of the Complaint were served on Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on July 30, 2014.

Dated: June 30, 2014.
Kimberly D. Bose,
Secretary.

[FR Doc. 2014-16020 Filed 7-8-14; 8:45 am]

BILLING CODE 6717-01-P